INTERNATIONAL TRADE COMMISSION

[Investigation 332-454]

Remediation and Nature and Landscape Protection Services: An Overview of U.S. and Foreign Markets

AGENCY: United States International Trade Commission.

ACTION: Institution of Investigation and scheduling of public hearing.

EFFECTIVE DATE: July 22, 2003.

SUMMARY: Following receipt of a request on July 1, 2003 from the United States Trade Representative (USTR), the Commission instituted Investigation No. 332-454, Remediation and Nature and Landscape Protection Services: An Examination of U.S. and Foreign Markets, under section 332(g) of the Tariff Act of 1930 (19 U.S.C. 1332(g)).

FOR FURTHER INFORMATION CONTACT: Information specific to this investigation may be obtained from Jennifer Baumert, Project Leader (202-502-3450; jbaumert@usitc.gov), or Richard Brown, Chief, Services and Investment Division (202-205-3438; rbrown@usitc.gov), Office of Industries, U.S. International Trade Commission, Washington, DC, 20436. For information on the legal aspects of this investigation, contact William Gearhart of the Office of the General Counsel (202-205-3091; wgearhart@usitc.gov). Hearing impaired individuals are advised that information on this matter can be obtained by contacting the TDD terminal on (202) 205-1810.

Background: As requested by the USTR, the Commission's report will, to the extent possible, (1) Provide an overview of foreign and domestic markets for remediation and nature and landscape protection services; (2) examine trade and investment in remediation and nature and landscape protection services markets, including barriers affecting such trade and investment, if any; and (3) if possible, discuss existing regulatory practices. USTR has requested that the Commission's study include examples from both developed and developing country markets. As requested by USTR, the range of services to be investigated in this study will be determined upon further consultation between USTR and ITC staff. The USTR asked that the Commission furnish its report by October 1, 2004, and that the Commission make the report available to the public in its entirety.

The USTR letter also requests an investigation on solid and hazardous waste services. In response, the Commission has instituted Investigation No. 332-455, Solid and Hazardous Waste Services: An Examination of U.S. and Foreign Markets, which is due to the USTR on April 1, 2004.

Public Hearing: A public hearing in connection with the investigation will be held at the U.S. International Trade Commission Building, 500 E Street SW., Washington, DC, beginning at 9:30 a.m. on March 17, 2004. All persons shall have the right to appear, by counsel or in person, to present information and to be heard. Requests to appear at the public hearing should be filed with the Secretary, United States International Trade Commission, 500 E Street SW., Washington, DC 20436, no later than 5:15 p.m., March 3, 2004. Any prehearing briefs (original and 14 copies) should be filed not later than 5:15 p.m., March 5, 2004; the deadline for filing post-hearing briefs or statements is 5:15 p.m., March 31, 2004. In the event that, as of the close of business on March 3, 2004, no witnesses are scheduled to appear at the hearing, the hearing will be canceled. Any person interested in attending the hearing as an observer or non-participant may call the Secretary of the Commission (202-205-1816) after March 3, 2004, for information concerning whether the hearing will be held.

Written Submissions: In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary to the Commission for inspection by interested parties. The Commission will not include any confidential business information in the report it sends to the USTR. To be assured of consideration by the Commission, written statements relating to the Commission's report should be submitted to the Commission at the earliest practical date and should be received no later than the close of business on March 31, 2004. All submissions should be addressed to the Secretary, United States International Trade Commission, 500 E Street SW., Washington, DC 20436. The Commission's rules do not authorize filing submissions with the Secretary by facsimile or electronic means, except to the extent permitted by 201.8 of the Commission's Rules (19 CFR 201.18) (see Handbook for Electronic Filing Procedures, ftp://ftp.usitc.gov/pub/reports/electronic_filing_handbood.pdf).

Persons with mobility impairments who will need special assistance in gaining access to the Commission should contact the Office of the Secretary at 202-205-2000. General information concerning the Commission may also be obtained by accessing its Internet server (http://www.usitc.gov).

List of Subjects

WTO, GATS, remediation and nature and landscape protection services.

Issued: July 30, 2003.
By order of the Commission.
Marilyn R. Abbott,
Secretary to the Commission.

[FR Doc. 03-19818 Filed 8-4-03; 8:45 am]

BILLING CODE 7020-02-P